DEPARTMENT OF LABOR

Employment and Training Administration

[TA-W-53,255]

Savane International Corporation, El Paso, Texas; Notice of Termination of Investigation

Pursuant to section 221 of the Trade Act of 1974, as amended, an investigation was initiated on October 15, 2003 in response to a petition filed by a state agency representative on behalf of workers at Savane International Corporation, El Paso, Texas. The facility shut down in June of 2002

The petition regarding the investigation has been deemed invalid. In order to establish a valid worker group, there must be at least three full-time workers employed at some point during the period under investigation. Workers of the group subject to this investigation did not meet this threshold level of employment. Consequently, the investigation has been terminated.

Signed at Washington, DC, this 24th day of October 2003.
Richard Church,
Certifying Officer, Division of Trade Adjustment Assistance.

[FR Doc. 03-30084 Filed 12-2-03; 8:45 am]

BILLING CODE 4510-30-P